DEPARTMENT OF ENERGY

Federal Energy Regulatory Commission

[City of Radford Electric Utilities; Project No. 1235-016]

Notice of Intent To File License Application, Filing of Pre-Application Document, and Approving Use of the Traditional Licensing Process

a. Type of Filing: Notice of Intent to File License Application and Request to Use the Traditional Licensing Process.

b. Project No.: 1235-016.

c. Date Filed: May 23, 2014.

d. Submitted By: City of Radford Electric Utilities.

e. Name of Project: Municipal Hydroelectric Project.

f. Location: The Municipal Hydroelectric Project is located on the Little River near the city of Radford, in Montgomery and Pulaski counties, Virginia. The project does not affect federal lands.

g. Filed Pursuant to: 18 CFR 5.3 of the Commission's regulations.

h. Applicant Contact: Tim Logwood, City of Radford Electric Utilities, 701 17th Street, Radford, Virginia 24141; (540) 731-3641 or email at tlogwood@radford.va.us.

i. FERC Contact: Allyson Conner at (202) 502-6082 or email at allyson.conner@ferc.gov.

j. City of Radford Electric Utilities (Radford) filed its request to use the Traditional Licensing Process on May 23, 2014. Radford provided public notice of its request on May 21, 2014. In a letter dated July 11, 2014, the Director of the Division of Hydropower Licensing approved Radford's request to use the Traditional Licensing Process.

k. With this notice, we are initiating informal consultation with: (a) The U.S. Fish and Wildlife Service under section 7 of the Endangered Species Act and the joint agency regulations thereunder at 50 CFR, Part 402; and (b) the Virginia State Historic Preservation Officer, as required by section 106, National Historic Preservation Act, and the implementing regulations of the Advisory Council on Historic Preservation at 36 CFR 800.2.

l. With this notice, we are designating Radford as the Commission's non-federal representative for carrying out informal consultation pursuant to section 7 of the Endangered Species Act and consultation pursuant to section 106 of the National Historic Preservation Act.

m. Radford filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov, (866) 208-3676 (toll free), or (202) 502-8659 (TTY). A copy is also available for inspection and reproduction at the address in paragraph h.

o. The licensee states its unequivocal intent to submit an application for a subsequent license for Project No. 1235-016. Pursuant to CFR 16.8, 16.9, and 16.10 each application for a subsequent license and any competing license applications must be filed with the Commission at least 24 months prior to the expiration of the existing license. All applications for license for this project must be filed by May 31, 2017.

p. Register online at http://www.ferc.gov/docs-filing/esubscription.asp to be notified via email of new filing and issuances related to this or other pending projects. For assistance, contact FERC Online Support.

Dated: July 11, 2014.
Kimberly D. Bose,
Secretary.

[FR Doc. 2014-17049 Filed 7-18-14; 8:45 am]

BILLING CODE 6717-01-P